DEPARTMENT OF COMMERCE

International Trade Administration

Initiation of Antidumping and Countervailing Duty Administrative Reviews

AGENCY: Enforcement and Compliance, International Trade Administration, Department of Commerce.

SUMMARY: The U.S. Department of Commerce (Commerce) has received requests to conduct administrative reviews of various antidumping duty (AD) and countervailing duty (CVD) orders with July anniversary dates. In accordance with Commerce's regulations, we are initiating those administrative reviews.

DATES: Applicable August 22, 2025.

FOR FURTHER INFORMATION CONTACT: Brenda E. Brown, AD/CVD Operations, Customs Liaison Unit, Enforcement and Compliance, International Trade Administration, U.S. Department of Commerce, 1401 Constitution Avenue NW, Washington, DC 20230, telephone: (202) 482-4735.

SUPPLEMENTARY INFORMATION:

Background

Commerce has received timely requests, in accordance with 19 CFR 351.213(b), for administrative reviews of various AD and CVD orders with July anniversary dates. All deadlines for the submission of various types of information, certifications, comments, or actions by Commerce discussed below refer to the number of calendar days from the applicable starting time.

Respondent Selection

In the event that Commerce limits the number of respondents for individual examination for administrative reviews initiated pursuant to requests made for the orders identified below, Commerce intends to select respondents based either on U.S. Customs and Border Protection (CBP) data for U.S. imports during the period of review (POR) or questionnaires in which we request the quantity and value (Q&V) of sales, shipments, or exports during the POR. Where Commerce selects respondents based on CBP data, we intend to place the CBP data on the record within five days of publication of the initiation notice. Where Commerce selects respondents based on Q&V data, Commerce intends to place the Q&V questionnaire on the record of the review within five days of publication of the initiation notice. In either case, we intend to make our respondent selection decision within 35 days of the Federal Register publication of the initiation notice. Comments regarding the CBP data (and/or Q&V data (where applicable)) and respondent selection should be submitted within seven days after the placement of the CBP data/submission of the Q&V data on the record of the review. Parties wishing to submit rebuttal comments should submit those comments within five days after the deadline for the initial comments.

In the event that Commerce decides it is necessary to limit individual examination of respondents and conduct respondent selection under section 777A(c)(2) of the Tariff Act of 1930, as amended (the Act), the following guidelines regarding collapsing of companies for purposes of respondent selection will apply. In general, Commerce has found that determinations concerning whether particular companies should be “collapsed” (e.g., treated as a single entity for purposes of calculating AD rates) require a substantial amount of detailed information and analysis, which often require follow-up questions and analysis. Accordingly, Commerce will not conduct collapsing analyses at the respondent selection phase of the review and will not collapse companies at the respondent selection phase unless there has been a determination to collapse certain companies in a previous segment of the AD proceeding (e.g., investigation, administrative review, new shipper review, or changed circumstances review). For any company subject to the review, if Commerce determined, or continued to treat, that company as collapsed with others, Commerce will assume that such companies continue to operate in the same manner and will collapse them for respondent selection purposes. Otherwise, Commerce will not collapse companies for purposes of respondent selection.

Parties are requested to (a) identify which companies subject to review previously were collapsed, and (b) provide a citation to the proceeding in which they were collapsed. Further, if companies are requested to complete the Q&V questionnaire for purposes of respondent selection, in general, each company must report volume and value data separately for itself. Parties should not include data for any other party, even if they believe they should be treated as a single entity with that other party. If a company was collapsed with another company or companies in the most recently completed segment of the proceeding where Commerce considered collapsing that entity, complete Q&V data for that collapsed entity must be submitted.

Notice of No Sales

With respect to AD administrative reviews, we intend to rescind the review where there are no suspended entries for a company or entity under review and/or where there are no suspended entries under the company-specific case number for that company or entity. Where there may be suspended entries, if a producer or exporter named in this notice of initiation had no exports, sales, or entries during the POR, it may notify Commerce of this fact within 30 days of publication of this initiation notice in the Federal Register for Commerce to consider how to treat suspended entries under that producer's or exporter's company-specific case number.

Deadline for Withdrawal of Request for Administrative Review

Pursuant to 19 CFR 351.213(d)(1), a party that has requested a review may withdraw that request within 90 days of the date of publication of the notice of initiation of the requested review. The regulation provides that Commerce may extend this time if it is reasonable to do so. Determinations by Commerce to extend the 90-day deadline will be made on a case-by-case basis.

Deadline for Particular Market Situation Allegation

Section 504 of the Trade Preferences Extension Act of 2015 amended the Act by adding the concept of a particular market situation (PMS) for purposes of constructed value under section 773(e) of the Act.¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

¹ See Trade Preferences Extension Act of 2015, Public Law 114-27, 129 Stat. 362 (2015).

Neither section 773(e) of the Act nor 19 CFR 351.301(c)(2)(v) set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of initial responses to section D of the questionnaire.

Separate Rates

In proceedings involving non-market economy (NME) countries, Commerce begins with a rebuttable presumption that all companies within the country are subject to government control and, thus, should be assigned a single AD deposit rate. It is Commerce's policy to assign all exporters of merchandise subject to an administrative review in an NME country this single rate unless an exporter can demonstrate that it is sufficiently independent so as to be entitled to a separate rate.

To establish whether a firm is sufficiently independent from government control of its export activities to be entitled to a separate rate, Commerce analyzes each entity exporting the subject merchandise. In accordance with the separate rates criteria, Commerce assigns separate rates to companies in NME cases only if respondents can demonstrate the absence of both de jure and de facto government control over export activities.

All firms listed below that wish to qualify for separate rate status in the administrative reviews involving NME countries must complete, as appropriate, either a Separate Rate Application or Certification, as described below. In addition, all firms that wish to qualify for separate rate status in the administrative reviews of AD orders in which a Q&V questionnaire is issued must complete, as appropriate, either a Separate Rate Application or Certification, and respond to the Q&V questionnaire.

For these administrative reviews, in order to demonstrate separate rate eligibility, Commerce requires entities for whom a review was requested, that were assigned a separate rate in the most recent segment of this proceeding in which they participated, to certify that they continue to meet the criteria for obtaining a separate rate. The Separate Rate Certification form will be available on Commerce's website at https://access.trade.gov/Resources/nme/nme-sep-rate.html on the date of publication of this Federal Register notice. In responding to the certification, please follow the “Instructions for Filing the Certification” in the Separate Rate Certification. Separate Rate Certifications are due to Commerce no later than 14 calendar days after publication of this Federal Register notice. In addition to filing a Separate Rate Certification with Commerce no later than 14 calendar days after publication of this Federal Register notice. The deadline and requirement for submitting a Separate Rate Certification applies equally to NME-owned firms, wholly foreign-owned firms, and foreign sellers who purchase and export subject merchandise to the United States.

Entities that currently do not have a separate rate from a completed segment of the proceeding ² should timely file a Separate Rate Application to demonstrate eligibility for a separate rate in this proceeding. In addition, companies that received a separate rate in a completed segment of the proceeding that have subsequently made changes, including, but not limited to, changes to corporate structure, acquisitions of new companies or facilities, or changes to their official company name,³ should timely file a Separate Rate Application to demonstrate eligibility for a separate rate in this proceeding. The Separate Rate Application will be available on Commerce's website at https://access.trade.gov/Resources/nme/nme-sep-rate.html on the date of publication of this Federal Register notice. In responding to the Separate Rate Application, refer to the instructions contained in the application. Separate Rate Applications are due to Commerce no later than 14 calendar days after publication of this Federal Register notice. The deadline and requirement for submitting a Separate Rate Application applies equally to NME-owned firms, wholly foreign-owned firms, and foreign sellers that purchase and export subject merchandise to the United States.

² Such entities include entities that have not participated in the proceeding, entities that were preliminarily granted a separate rate in any currently incomplete segment of the proceeding (e.g., an ongoing administrative review, new shipper review, etc.) and entities that lost their separate rate in the most recently completed segment of the proceeding in which they participated.

³ Only changes to the official company name, rather than trade names, need to be addressed via a Separate Rate Application. Information regarding new trade names may be submitted via a Separate Rate Certification.

Exporters and producers must file a timely Separate Rate Application or Certification if they want to be considered for individual examination. Furthermore, exporters and producers who submit a Separate Rate Application or Certification and subsequently are selected as mandatory respondents will no longer be eligible for separate rate status unless they respond to all parts of the questionnaire as mandatory respondents.

Certification Eligibility

Commerce may establish a certification process for companies whose exports to the United States could contain both subject and non-subject merchandise. Companies under review that were deemed to not be eligible to participate in the certification program of that proceeding may submit a Certification Eligibility Application to establish that they maintain the necessary systems to track their sales to the United States of subject and non-subject goods.

All firms listed below that are not currently eligible to certify but wish to establish certification eligibility are required to submit a Certification Eligibility Application. The Certification Eligibility Application will be available on Commerce's website at https://access.trade.gov/Resources/Certification-Eligibility-Application.pdf.

Certification Eligibility Applications must be filed according to Commerce's regulations and are due to Commerce no later than 30 calendar days after the publication of the Federal Register notice.

Exporters and producers that are not currently eligible to certify, who submit a Certification Eligibility Application, and are subsequently selected as mandatory respondents must respond to all parts of the questionnaire as mandatory respondents for Commerce to consider their Certification Eligibility Application.

Initiation of Reviews

In accordance with 19 CFR 351.221(c)(1)(i), we are initiating administrative reviews of the following AD and CVD orders and findings. We intend to issue the final results of these reviews not later than July 31, 2026.

| Period to be reviewed
AD Proceedings
BELGIUM: Citric Acid And Certain Citrate Salts, A-423-813 | 7/1/24-6/30/25
Citribel N.V.
BURMA: Mattresses, A-546-001 | 12/2/23-6/30/25
Glory Home (Myanmar) Limited
Hangtai (Myanmar) Co., Ltd.
CAMBODIA: Certain Paper Shopping Bags, A-555-002 | 1/3/24-6/30/25
Brandart S.p.A.
Nice Packaging (Cambodia) Co., Ltd.
TB Packaging (Cambodia) Co., Ltd.
UUPak Company Limited.
COLOMBIA: Certain Paper Shopping Bags, A-301-805 | 1/3/24-6/30/25
Ditar, S.A.
COLOMBIA: Citric Acid And Certain Citrate Salts, A-301-803 | 7/1/24-6/30/25
Sucroal S.A.
INDIA: Certain Cold-Drawn Mechanical Tubing of Carbon and Alloy Steel,⁴ A-533-873 | 6/1/24-5/31/25
INDIA: Certain Paper Shopping Bags, A-533-917 | 1/3/24-6/30/25
Adeera Packaging Pvt. Ltd
Amate Products Pvt. Ltd.
Archies Limited
Asha Creation
Canpac Trends Private Limited
Carrywell Packaging Pvt. Ltd.
Ckaari Packaging Pvt. Ltd.
Colorbox
Dynaflex Private Limited
Harrshan Pro-Pack LLP
JK Industries
Kuloday Plastomers Pvt. Ltd.
Laser Edge Graphics
Max Packaging
Pack Planet Pvt. Ltd.
Paras Webcoat Pvt. Ltd.
Poonam
SGM Paper Products
Shriniwas Enterprises
Tejaswi Plastic Pvt. Ltd.
Velvin Packaging Solutions Pvt. Ltd., The Velvin Group, Velvin Paper Products
True Tag International Private Limited
Vama Packaging
INDIA: Fine Denier Polyester Staple Fiber, A-533-875 | 7/1/24-6/30/25
Reliance Industries Limited
The Bombay Dyeing And Manufacturing Company Limited
INDIA: Non-Refillable Steel Cylinders,⁵ A-533-912 | 12/1/23-5/31/25
Mauria Udyog Limited
INDIA: Polyethylene Terephthalate (Pet) Film, A-533-824 | 7/1/24-6/30/25
Chiripal Poly Films Limited
Ester Industries Limited
Garware Hi-Tech Films Limited
Garware Polyester Ltd.
Jindal Poly Films Ltd.; Jindal Poly Films Ltd. (India)
JPFL Films Private Limited
Polyplex Corporation Ltd.
SRF Limited
Vacmet India Limited
Cosmo First Ltd.
ITALY: Certain Pasta, A-475-818 | 7/1/24-6/30/25
Agritalia S.r.L.
Andriani S.p.A.
Antiche Tradizioni Di Gragnano S.R.L
Barilla G. e R. Fratelli Società per Azioni Socio Unico
George DeLallo Company, Inc.
Gruppo Milo SpA
La Doria Pasta PL S.r.l.
La Molisana, S.p.A.
Marchesi Frescobaldi Soc. Agricola S.r.l.
Pastificio Artigiano Cav. Giuseppe Cocco S.R.L.
Pastificio Di Martino Gaetano e Flli S.p.A.
Pastificio Fratelli Cellino S.P.A
Pastificio Fratelli Cellino S.R.L.
Pastificio Ligouri S.p.A.; PAM S.P.A.; PAM S.R.L.; Liguori Pastificio Dal 1820 S.P.A.;
Pastificio Della Forma S.r.l.
Pastificio Lucio Garofalo S.p.A.
Pastificio Mediterranea S.R.L
Pastificio Sgambaro
Rummo S.p.A; Pasta Castiglioni S.r.l.; Molino e Pastifico; Rummo Lenta Lavorazione S.p.A.
The Aldino Group: Aldino S.r.l.; Pastificio Tamma S.r.l, Pastificio Chiavenna S.r.l.,
Pastificio Rigo S.P.A.
ITALY: Certain Cold-Drawn Mechanical Tubing of Carbon and Alloy Steel,⁶ A-475-838 | 6/1/24-5/31/25
ITALY: Mattresses, A-475-845 | 3/1/24-6/30/25
Matermoll SRL
JAPAN: Certain Cold-Rolled Steel Flat Products, A-588-873 | 7/1/24-6/30/25
JFE Steel Corporation
Marubeni-Itochu Steel Inc.
Marubeni-Itochu Steel America Inc.
Nippon Steel Corporation
Shinsho Corporation
Toyota Tsusho Corporation
MALAYSIA: Certain Paper Shopping Bags, A-557-825 | 1/3/24-6/30/25
Hexachase Packaging Sdn Bhd.
Qlopac Sdn Bhd.
Sin Boon Beng Printing Sdn Bhd.
UPS SCS (Malaysia) Services Sdn Bhd.
MALAYSIA: Certain Steel Nails, A-557-816 | 7/1/24-6/30/25
Alsons Manufacturing India, LLP
Atlantic Marine Group Ltd.
Asia Bolts & Nuts Sdn. Bhd.
Astrotech Steels Pvt. Ltd.
AV Fastener (M) Sdn. Bhd.
Best Staples Sdn. Bhd.
Chia Pao Metal Co., Ltd.
Chin Lai Hardware Sdn. Bhd.
Chin Well Fasteners Co.
Chuan Heng Hardware Paints and Building Materials Sdn. Bhd.
Come Best (Thailand) Co., Ltd.
Gbo Fastening Systems AB
Geekay Wires Limited
Gripwell Fastening (M) Sdn. Bhd.
Impress Steel Wire Industries Sdn. Bhd.
Inmax Industries Sdn. Bhd.
Inmax Sdn. Bhd.
Fastenal Malaysia Sdn. Bhd.
Fuji Fastener Manufacturing Sdn. Bhd.
Kerry-Apex (Thailand) Co., Ltd.
Kimmu Trading Sdn., Bhd.
Kimmu Industries Sdn. Bhd.
Madura Fasteners Sdn. Bhd.
Modern Factory for Steel Industries Co., Ltd.
Multi Venture Resources Sdn. Bhd.
Oman Fasteners LLC
PrimeSource Building Products Inc.
Region International Co. Ltd.
Region Systems Sdn. Bhd.
RM Wire Industries Sdn. Bhd.
S.H. Chooi Fasteners
SK Bolts & Fasteners Sdn. Bhd.
SNA Steel Products (M) Sdn. Bhd.
Soon Shing Building Materials Sdn. Bhd.
Storeit Services LLP
Sunmat Industries Sdn., Bhd.
Tag Fasteners Sdn. Bhd.
Tag Staples Sdn., Bhd.
Tampin Sin Yong Wai Industry Sdn. Bhd.
Top Remac Industries
Trinity Steel Private Limited
UD Industries Sdn., Bhd.
Vien Group Sdn., Bhd.
Watasan Industries Sdn., Bhd.
Winston Mayer Sdn. Bhd.
Wing Tai Fastener Manufacturer
WWL India Private Ltd.
Yew Siong Industrial Supplies Sdn. Bhd.
OMAN: Certain Steel Nails, A-523-808 | 7/1/24-6/30/25
Al Ansari Teqmark LLC
Al Kiyumi Global LLC
Al Sarah Building Materials LLC
Buraimi Iron & Steel, LLC
CL Synergy (Pvt) Ltd.
Diamond Foil Trading LLC
Gulf Nails LLC:
Gulf Nails Manufacturing, LLC
Gulf Steel Manufacturers, LLC
Modern Factory for Metal Products
Muscat Industrial Company, LLC
Muscat Nails Factory Golden Asset Trade, LLC
Oman Fasteners LLC
Oman Ocean Trading LLC
Omega Global Uluslararasi Tasimacilik Ticaret Ltd. Sti
Platinum Fasterners
WWL Indian Private Ltd
POLAND: Mattresses, A-455-807 | 7/1/24-6/30/25
EBI, LLC
COM40 Sp. z o.o. Sp. K.
CORRECT—K. Błaszczyk i Wspólnicy Sp. K
PORTUGAL: Certain Paper Shopping Bags, A-471-808 | 1/3/24-6/30/25
Finieco Indústria e Comércio de Embalagens, S.A.
Industria de Diseno Textil S.A.
REPUBLIC OF KOREA: Certain Corrosion-Resistant Steel Products, A-580-878 | 7/1/24-6/30/25
Dongbu Incheon Steel Co., Ltd.
Dongkuk Coated Metal Co., Ltd.
Dongkuk Steel Mill Co., Ltd.
Hyundai Steel Company
KG Dongbu Steel Co., Ltd.
POSCO
POSCO Coated & Color Steel Co., Ltd.
POSCO International Corporation
SeAH Coated Metal
SeAH Steel Corporation
TCC Steel Corp.
REPUBLIC OF KOREA: Certain Steel Nails, A-580-874 | 7/1/24-6/30/25
Daejin Steel Company
Hanmi Staple Co., Ltd.
Inmax Industries Sdn. Bhd.
Je-il Wire Production Co., Ltd.
Jinsco International Corp.
Koram Inc.
Korea Wire Co., Ltd.
Nailtech Co., Ltd.
Peace Korea Co., Ltd.
REPUBLIC OF KOREA: Passenger Vehicle and Light Truck Tires, A-580-908 | 7/1/24-6/30/25
Hankook Tire & Technology Co., Ltd.
Hankook Tire America Corp.
Kumho Tire Co., Inc.
Nexen Tire Corporation
REPUBLIC OF TÜRKIYE: Steel Concrete Reinforcing Bar, A-489-829 | 7/1/24-6/30/25
Colakoglu Dis Ticaret A.S.; Colakoglu Metalurji A.S.
Ekinciler Demir ve Çelik Sanayi A.Ş.
Habas Sinai ve Tibbi Gazlar Istihsal Endustrisi A.S.
Icdas Celik Enerji Tersane ve Ulasim A.S.
Kaptan Demir Celik Endustrisi ve Ticaret A.S.; Kaptan Metal Dis Ticaret ve Nakliyat A.S.
SOCIALIST REPUBLIC OF VIETNAM: Certain Paper Shopping Bags, A-552-836 | 1/3/23-6/30/25
Blue Sea Pack Import Export Company Limited
Goldsun Packaging and Printing Joint Stock Company
International Packaging Limited Company
International Packaging Limited Company
Vietnam Red Star Industry Company Limited
Vietnam Red Star Industry Company Limited of Vietnam
SOCIALIST REPUBLIC OF VIETNAM: Certain Steel Nails, A-552-818 | 7/1/24-6/30/25
JCV Corp Company Limited
Fastening Care
Region Industries Co., Ltd.
Yes Logistics Corp.
SOCIALIST REPUBLIC OF VIETNAM: Welded Stainless Steel Pressure Pipe, A-552-816 | 7/1/24-6/30/25
Công ty TNHH Thép không ge Quang Thuong Viet Nam
Mejonson Industrial Vietnam Co., Ltd.
Quang Thuong Vietnam Stainless Steel Company Limited
Sonha International Corporation
Sonha SSP Vietnam Sole Member Co. Limited
The Vietnam-wide Entity
Vinasteel Production Joint Stock Company
Vinlong Stainless Steel (Vietnam) Co., Ltd.
TAIWAN: Certain Corrosion-Resistant Steel Products, A-583-856 | 7/1/24-6/30/25
China Steel Corporation
Chung Hung Steel Corporation
Great Fortune Steel Co., Ltd.
Great Grandeul Steel Co., Ltd.
Great Grandeul Steel Company Limited (Somoa)
Great Grandeul Steel Corporation
Prosperity Tieh Enterprise Co., Ltd.
Sheng Yu Steel Co., Ltd.
Xxentria Technology Materials Company Ltd.
TAIWAN: Certain Paper Shopping Bags, A-583-872 | 1/3/24-6/30/25
Chung Tai Bag King Corporation
Chyan Tay International Corp.
Haur Tyi Paper Bag Co., Ltd.
Toolsworks International Ltd.
Xiamen Yasili Trade Co., Ltd.
Zheng Da Paper Industry Co., Ltd.
TAIWAN: Certain Steel Nails, A-583-854 | 7/1/24-6/30/25
Chunyu Factory Co., Ltd
Cool Shot Ltd.
Encore Green Co., Ltd
Faithful Engineering Products Co., Ltd.
Fang Sheng Screw Co., Ltd
Fwang Tzay Enterprise Corp
Herstel Trading Limited
Home Value Co., Ltd.
Hsi Yi Enterprise Co. Ltd.
Hsin Ho Mfg. Co., Ltd.
Joker Industrial Co., Ltd.
Leading Hardware Corporation
Lu Chu Shin Yee Works Co., Ltd.
Panther T & H Industry Co., Ltd.
Perfect Seller Co., Ltd.
Phoenix Merchandise Inc.
Rexlen Corporation:
Top Forever Screws Co., Ltd.
Sanji Co., Ltd.
Sourcing Metrics Ltd.
TG Co., Ltd
Xiamen Huiyu Chemical Trading Co.
TAIWAN: Mattresses, A-583-873 | 3/1/24-6/30/25
Caremed Supply Inc.
Cathay Consolidated Inc.
Chi Yuan Biotech Co., Ltd
Feng Yi Outdoor Leisure Equipment
Midg Hand Industry Co., Ltd
Sinew KRG Factory Co. Ltd.
Sunhold Technology Co., Ltd.
TAIWAN: Passenger Vehicle and Light Truck Tires, A-583-869 | 7/1/24-6/30/25
Cheng Shin Rubber Ind. Co. Ltd.
TAIWAN: Polyethylene Terephthalate (Pet) Film, A-583-837 | 7/1/24-6/30/25
Nan Ya Plastics Corporation; Nan Ya Plastics Corporation, Ltd.
Shinkong Materials Technology Co. Ltd
Shinkong Materials Technology Corporation
Shinkong Synthetic Fibers Corporation
Shinkong Synthetic Fibers Corp.
THAILAND: Citric Acid And Certain Citrate Salts, A-549-833 | 7/1/24-6/30/25
COFCO Biochemical (Thailand) Co., Ltd.
Sunshine Biotech International Co., Ltd.
Xitrical Group Co., Ltd.
THAILAND: Passenger Vehicle and Light Truck Tires, A-549-842 | 7/1/24-6/30/25
Bridgestone Company, Ltd.
Bridgestone Tire Manufacturing (Thailand) Co. Ltd.
Deestone Corporation Public Company Limited; Deestone Corporation Ltd.
Deestone Limited
Deestone International Company Limited
Svizz-One Corporation Limited
Siamtruck Radial Company Limited
General Rubber (Thailand) Co., Ltd.
Maxxis International (Thailand) Co., Ltd.
Otani Radial Co., Ltd.
Otani Tire Co., Ltd.
S.R. Tyres Co., Ltd.
Sentury Tire (Thailand) Co., Ltd.
Siam Rubber Co., Ltd.
Sumitomo Rubber (Thailand) Co., Ltd.
Thai Bridgestone Co., Ltd.
Vee Tyre & Rubber Co., Ltd.
Yokohama Tire Manufacturing (Thailand) Co., Ltd.
Yokohama Rubber Co., Ltd.
THE PEOPLE'S REPUBLIC OF CHINA: Certain Chassis and Subassemblies Thereof, A-570-135 | 7/1/24-6/30/25
CIMC Vehicles (Group) Co., Ltd.
Dongguan CIMC Vehicles Co., Ltd.
Qingdao CIMC Special Vehicles Co., Ltd.
SinoTrailers
THE PEOPLE'S REPUBLIC OF CHINA: Certain Collated Steel Staples, A-570-112 | 7/1/24-6/30/25
Adinath Corporation Limited
A-Jax Intl Co., Ltd
Alfa Marine (Shanghai) Co., Ltd.
An Ji Bei Lun Jia Ju You Xian Gong
Anhui Z&A Import and Export Co., Ltd.
Baoding Baigou New City Yuhuang
Beijing Yazhao Technology Co., Ltd
Changzhou Kya Fasteners Co., Ltd.
China Staple Enterprise (Tianjin) Co
China Wind International Ltd.
Cre8 Direct (Ningbo) Co., Ltd.
CS TianJin Enterprise Co., Ltd.
D.I.Y. Hardware Tools (China Co.,
E-Teklon Co., Ltd
Fastnail Products Limited
Five Star International Import and Export
Foshan Hosontool Development Hardware Co., Ltd.
Fourever International Limited
Full Link Int'l Ltd.
Future Horizon Printing:
Global Link (Shanghai) Co., Ltd.
Gss Hardware Co. Limited
Guangdong Willing Technology Corporation
Guangzhou Liya Leather Co., Ltd.
Guangzhou Nova Co., Ltd.
H&B Promotional Limited
Hainan Golden Shell Co., Ltd.
HDL International Holdings Limited
Hebei Minmetals Co., Ltd.
Hebei Qiqun Import And Export Trade
Hebei Reenly Trade Co., Ltd.
Henan Beibond Co., Ltd.
Hk Prosper Industry Limited
Hk Sino-Harvest Packing Co., Ltd.
Hong Kong Beyond Group Company Limited
Hubei Xing Ning Corporation Limited
J. Ennis (Ningbo Free Trade Zone) Co.
Jiaxing Anita Electrical Co., Ltd.
Jiaxing Brothers Hardware Co., Ltd.
Ky Pneumatic Nail Co., Limited
Larme Industrial (Shanghai) Company
Max Co., Ltd
Mingguang Ruifeng Hardware Products Co., Ltd.
Nanjing Justar Material Co., Ltd
Ningbo Assisting Trading Co., Ltd.
Ningbo Cando Imp&Exp Co., Ltd.
Ningbo Feihong Stationery Ltd Corp
Ningbo G&W Imp.&Exp. Co., Ltd
Ningbo Home-Dollar Imp&Exp Corp.
Ningbo Hoz Fasteners Co., Limited
Ningbo Jieyou Trading Co., Ltd.
Ningbo Joystar International Trade
Ningbo Mas-Houseware Imp. Exp. Co., Ltd.
Ningbo Most-Textile Trading Co., Ltd.
Ningbo Paper Melody Industrial Co., Ltd
Ningbo Superior Trading Co., Ltd.
Ningbo Tongya International Co., Ltd.
Ningbo (Yinzhou) Yongjia Electrical:
Ocean King International Industries Limited
Oli-Fast Fasteners (Tianjin)
Prym Consumer Ningbo Trading Limited
Qingdao Forent Industry Co., Ltd.
Rayson Electrical Mfg. Ltd.
Rise Time Industrial Limited
Shanghai Jade Shuttle Hardware Tools Co., Ltd.
Shanghai Yueda Nails Co., Ltd.
Shanxing Pioneer Hardware Industrial
Shaoxing Bohui Import & Export Co., Ltd.
Shaoxing Feida Nail Industry Co., Ltd:
Shaoxing Huasheng Stationery Manufacturing Co., Ltd
Shaoxing Shunxing Metal Producting Co., Ltd
Shaoxing Yiyou Stationary Co. Ltd.
Sumec Hardware and Tools Co., Ltd.
Suzhou Everich I/E Co., Ltd.
Techtronic Cordless Gp
Tianjin Hengtuo Metal Products Co.
Tianjin Hweschun Fasteners:
Tianjin Jin Xin Sheng Long Metal Products Co., Ltd.
Tianjin Jinyifeng Hardware Co., Ltd.
Tsi Manufacturing Llc (Hk) Limited
Unicorn (Tianjin) Fasteners Co., Ltd
Wire Products Manufacturing Co., Ltd.
Xiamen Wanguoxing Trade Co., Ltd.
Xi'An Metals and Minerals Import and Export
Yf Technology Corporation
Zhejiang Best Nail Industrial Co., Ltd.
Zhejiang Wangbin Decorative Materi
THE PEOPLE'S REPUBLIC OF CHINA: Certain Freight Rail Couplers and Parts Thereof, A-570-145 | 7/1/24-6/30/25
Alstom Transportation
Amsted Rail Company, Inc.
CH Robinson Worldwide
Chongqing Tongyao Intelligent Equipment Co., Ltd.
Chongqing Tongyao Transportation Equipment Co., Ltd.
Creative Instore Solutions Pty Ltd.
CRRC Mudanjiang Jinyuan Casting Co., Ltd.
Dellner Coupler System Technology (Wuhan) Co., Ltd.
Freightcar America
Greenbrier Central LLC
National Steel Car:
Ningbo Jinhui Precision Casting Co., Ltd
Ningbo Rete International Co., Ltd.
Qingdao Lianshan Castings Co., Ltd.
Renold China Chain NSC (Renold Hangzhou Co., Ltd.)
Rotex Global LLC
RTC Industries Inc.
Strategic Global Sourcing Ltd.
Strato, Inc.
Suzhou Huran Manufacturing Co., Ltd
Trinity Industries
TXX Company
Wabtec Corporation
THE PEOPLE'S REPUBLIC OF CHINA: Certain Hardwood Plywood Products, A-570-051 | 6/17/20-9/25/21
Hai Hien Bamboo Wood Joint Stock Company
THE PEOPLE'S REPUBLIC OF CHINA: Certain Quartz Surface Products, A-570-084 | 7/1/24-6/30/25
Karinastone (Malaysia) Sdn Bhd
THE PEOPLE'S REPUBLIC OF CHINA: Xanthan Gum, A-570-985 | 7/1/24-6/30/25
CP Kelco (Shandong) Biological Company Limited
Deosen Biochemical (Ordos) Ltd.
Deosen Biochemical Ltd.
Inner Mongolia Jianlong Biochemical Co., Ltd.
Jianlong Biotechnology Co. Ltd.
Jianlong Biotechnology Co., Ltd.
Jilin Meihua Amino Acid Co., Ltd.
Langfang Meihua Biotechnology Co., Ltd.
Meihua Group International Trading (Hong Kong)
Meihua Group International Trading (Hong Kong) Limited
Neimenggu Fufeng Biotechnologies Co., Ltd.
Xinjiang Fufeng Biotechnologies Co., Ltd.
Xinjiang Meihua Amino Acid Co., Ltd.
UKRAINE: Oil Country Tubular Goods, A-823-815 | 7/1/24-6/30/25
Interpipe Europe S.A.
Interpipe NTRP
Interpipe Ukraine LLC
LLC Interpipe Niko Tube
PJSC Interpipe Niznedneprovksy Tube Rolling Plant
CVD Proceedings
ITALY: Certain Pasta, C-475-819 | 1/1/24-12/31/24
Antiche Tradizioni Di Gragnano S.r.l.
De Matteis Agroalimentare S.p.A.
Industria Alimentare Colavita, S.p.A
Pastificio Attilo Mastromauro-Granoro Srl
Pastificio Attilio Mastromauro-Granoro Srl
Pastificio Sgambaro
INDIA: Certain Paper Shopping Bags, C-533-918 | 11/6/23-12/31/24
Ckaari Packaging Private Limited
INDIA: Polyethylene Terephthalate (Pet) Film, C-533-825 | 1/1/24-12/31/24
Chiripal Poly Films Limited
Cosmo First Ltd.
Ester Industries Limited
Garware Hi-Tech Films Limited
Garware Polyester Ltd.
Jindal Poly Films Ltd.
JPFL Films Private Limited
Polyplex Corporation Ltd
SRF Limited
Vacmet India Ltd.
REPUBLIC OF KOREA: Certain Corrosion-Resistant Steel Products, C-580-879 | 1/1/24-12/31/24
Dongkuk Coated Metal Co., Ltd.
Hyundai Steel
Hyundai Steel Company
Hyundai Steel Co., Ltd.
KG Dongbu Steel Co., Ltd
KG Steel Corporation
POSCO
POSCO International
POSCO Coated & Color Steel Co., Ltd.
POSCO Steeleon Co., Ltd.
SeAH Coated Metal
SeAH Steel Corporation
TCC Steel Corp.
REPUBLIC OF TÜRKIYE: Steel Concrete Reinforcing Bar, C-489-830 | 1/1/24-12/31/24
HABAS; Habas Elektrik Uretim A.S.; Habas Endustri Tesisleri A.S.; Mertas Turizm
Nakliyat ve Ticaret A.S.; HABAS SINAI VE TIBBI GAZLAR ISTIHSAL
ENDUSTRISI A.S.; Pegagaz A.S; Cebitas Demir Celik Endustrisi A.S.; Osman
Sonmez Ins. Taah; Habas Petrol Urtmleri Sanayi ve Ticaret A.S.
SOCIALIST REPUBLIC OF VIETNAM: Passenger Vehicle and Light Truck Tires, C-552-829 | 1/1/24-12/31/24
American Kenda Rubber Industrial Co. Ltd.
Kenda Rubber (Vietnam) Co., Ltd.
Kumho Tire (Vietnam) Co., Ltd.
Kumho Tire Co., Inc.
THE PEOPLE'S REPUBLIC OF CHINA: Certain Collated Steel Staples, C-570-113 | 1/1/24-12/31/24
Adinath Corporation Limited
A-Jax Intl Co., Ltd
Alfa Marine (Shanghai) Co., Ltd
An Ji Bei Lun Jia Ju You Xian Gong
Anhui Z&A Import And Export Co., Ltd.
Beijing Yazhao Technology Co., Ltd.
Cas International Co., Ltd.
Changzhou Kya Fasteners Co., Ltd.
China Staple Enterprise (Tianjin) Co
China Wind International Ltd.
China Zhejiang International
Cre8 Direct (Ningbo) Co., Ltd.
D.I.Y. Hardware Tools (China) Co., Ltd.
E-Teklon Co., Ltd.
Fastnail Products Limited
Foshan Hosontool Development Hardware Co., Ltd.
Fourever E-Commerce Company Limited
Fourever International Limited
Full Link Int'l Ltd
Future Horizon Printing
Fuzhou SFS Trading Co., Ltd.
Geofantex Geosynthetics Co., Ltd.
>Global Link (Shanghai) Co., Ltd
Gpa Hong Kong Limited
Gss Hardware Co., Ltd.
Guangdong Fuchang Stationery Co., Ltd.
Guangdong Willing Technology Corporation
Guangzhou Liya Leather Co., Ltd.
Guangzhou Nova Co., Ltd.
Hainan Golden Shell Co., Ltd.
Hangzhou G-Wire Technology Co., Ltd.
HDL International Holdings Limited
Hebei Minmetals Co., Ltd.
Hebei Reenly Trade Co., Ltd.
Hefei Great Auto Equipment Co., Ltd.
Henan Beibond Co., Ltd.
Hk Prosper Industry Limited
Hk Sino-Harvest Packing Co., Ltd.
Huanghua Rc Business Co., Ltd
Hubei Xing Ning Corporation Limited
J.Ennis (Ningbo Free Trade Zone) Co
Jabil Electronics (Weihai) Co
Jet Power International, Ltd.
Jiaxing Anita Electrical Co., Ltd.
Jiaxing Brothers Hardware Co., Ltd.
Jinweilong Fasteners (Hk) Co., Limited
Ky Pneumatic Nail Co., Limited
Larme Industrial (Shanghai) Company
Linyi Flyingarrow Imp. & Exp. Ltd.
Mingguang Ruifeng Hardware Products Co., Ltd.
Mulan Manufacturing Group
Nanjing Nuochun Hardware Co., Ltd.
Ningbo Assisting Trading Co., Ltd.
Ningbo Cando Imp&Exp Co., Ltd.
Ningbo Feihong Stationery Ltd Corp:
Ningbo G&W Imp.&Exp. Co., Ltd.
Ningbo Home-Dollar Imp&Exp Corp
Ningbo Hoz Fasteners Co., Limited.
Ningbo Jieyou Trading Co., Ltd.
Ningbo Mas-Houseware Imp. Exp. Co., Ltd.
Ningbo Most-Textile Trading Co., Ltd.
Ningbo Pacrim Manufacturing Co., Ltd.
Ningbo Paper Melody Industrial Co., Ltd.
Ningbo Superior Trading Co., Ltd.
Ningbo Tongya International Co., Ltd
Ningbo (Yinzhou) Yongjia Electrical Tools Co., Ltd.
Ningbo Yuanyu Stationery & Gifts Co., Ltd.
Ocean King International Industries Limited
Oli-Fast Fasteners (Tianjin)
Prym Consumer Ningbo Trading Limited
Qingdao Forent Industry Co., Ltd
Rayson Electrical Mfg. Ltd.
Rise Time Industrial Limited
Shanghai Jade Shuttle Hardware Tools Co., Ltd.
Shanghai Yueda Nails Co., Ltd
Shanxi Pioneer Hardware Industrial
Shaoxing Bohui Import & Export Co., Ltd.
Shaoxing Feida Nail Industry
Shaoxing Huasheng Stationery Manufacturing Co., Ltd.
Shaoxing Mingxing Nail Co., Ltd
Shaoxing Shangyu Longke Umbrella
Shaoxing Shunxing Metal Producting Co., Ltd.
Shaoxing Yiyou Stationery Co., Ltd.
Shuyang Sundy Art & Craft Co., Ltd.
Suntec Industries Co., Ltd.
Suzhou Everich I/E Co., Ltd.
Techtronic Cordless Gp
Thakral Corporation (Hk) Limited
Tianjin Angetai Import and Export Co., Ltd.
Tianjin Hengtuo Metal Products Co., Ltd.
Tianjin Hweschun Fasteners
Tianjin Jin Xin Sheng Long Metal Products Co., Ltd.
Tianjin Jinyifeng Hardware Co., Ltd.
TSI Manufacturing LLC (HK) Limited
Unicorn (Tianjin) Fasteners Co., Ltd
Wire Products Manufacturing Co., Ltd.
Xi An Metals And Minerals Import and Export Co., Ltd.
Xiamen Wanguoxing Trade Co., Ltd.
Yf Technology Corporation
Yiwu Chengming Import And Export Co., Ltd.
Yueqing Yuena Electric Science And Technology
Zhejiang Best Nail Industrial Co., Ltd.
Zhejiang Linyi Import And Export Co., Ltd.
Zhejiang Yunde Sanitary Ware Co., Ltd.
THE PEOPLE'S REPUBLIC OF CHINA: Certain Freight Rail Couplers and Parts Thereof, C-570-146 | 1/1/24-12/31/24
Alstom Transportation
CH Robinson Worldwide
Chongqing Tongyao Intelligent Equipment Co., Ltd.
Chongqing Tongyao Transportation Equipment Co., Ltd.
Creative Instore Solutions Pty Ltd.
Dellner Coupler System Technology (Wuhan) Co., Ltd.
National Steel Car
Ningbo Rete International Co., Ltd
Renold China Chain NSC (Renold Hangzhou Co. Ltd)
Rotex Global LLC
RTC Industries Inc.
Strategic Global Sourcing Ltd.
Suzhou Huran Manufacturing Co, Ltd
THE PEOPLE'S REPUBLIC OF CHINA: Certain Hardwood Plywood Products, C-570-052 | 6/17/20-9/25/21
Hai Hien Bamboo Wood Joint Stock Company
THE PEOPLE'S REPUBLIC OF CHINA: Certain Quartz Surface Products, C-570-085 | 1/1/24-12/31/24
Karinastone (Malaysia) Sdn Bhd

Suspension Agreements

⁴ In the initiation notice that published on July 25, 2025 (90 FR 35268), Commerce inadvertently listed Salem Steel N.A., LLC., a U.S. importer of subject merchandise, as a company under administrative review. Commerce hereby clarifies that Salem Steel N.A., LLC is not subject to the review.

⁵ Commerce inadvertently omitted the company listed above from the initiation notice that published on July 25, 2025 (90 FR 35268).

⁶ In the initiation notice that published on July 25, 2025 (90 FR 35268), Commerce inadvertently listed Tenaris Global Services (U.S.A.) Corporation, a U.S. importer of subject merchandise, as a company under administrative review. Commerce hereby clarifies that Tenaris Global Services (U.S.A.) Corporation is not subject to the review.

None.

Duty Absorption Reviews

During any administrative review covering all or part of a period falling between the first and second or third and fourth anniversary of the publication of an AD order under 19 CFR 351.211 or a determination under 19 CFR 351.218(f)(4) to continue an order or suspended investigation (after sunset review), Commerce, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Gap Period Liquidation

For the first administrative review of any order, there will be no assessment of antidumping or countervailing duties on entries of subject merchandise entered, or withdrawn from warehouse, for consumption during the relevant “gap” period of the order (i.e., the period following the expiry of provisional measures and before definitive measures were put into place), if such a gap period is applicable to the POR.

Administrative Protective Orders and Letters of Appearance

Interested parties must submit applications for disclosure under administrative protective orders in accordance with the procedures outlined in Commerce's regulations at 19 CFR 351.305. Those procedures apply to administrative reviews included in this notice of initiation. Parties wishing to participate in any of these administrative reviews should ensure that they meet the requirements of these procedures (e.g., the filing of separate letters of appearance as discussed at 19 CFR 351.103(d)).

Factual Information Requirements

Commerce's regulations identify five categories of factual information in 19 CFR 351.102(b)(21), which are summarized as follows: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). These regulations require any party, when submitting factual information, to specify under which subsection of 19 CFR 351.102(b)(21) the information is being submitted and, if the information is submitted to rebut, clarify, or correct factual information already on the record, to provide an explanation identifying the information already on the record that the factual information seeks to rebut, clarify, or correct. The regulations, at 19 CFR 351.301, also provide specific time limits for such factual submissions based on the type of factual information being submitted. Please review the Final Rule,⁷ available at https://www.govinfo.gov/content/pkg/FR-2013-07-17/pdf/2013-17045.pdf, prior to submitting factual information in this segment. Note that Commerce has amended certain of its requirements pertaining to the service of documents in 19 CFR 351.303(f).⁸

⁷ See Certification of Factual Information To Import Administration During Antidumping and Countervailing Duty Proceedings, 78 FR 42678 (July 17, 2013) (Final Rule); see also the frequently asked questions regarding the Final Rule, available at https://enforcement.trade.gov/tlei/notices/factual_info_final_rule_FAQ_07172013.pdf.

⁸ See Administrative Protective Order, Service, and Other Procedures in Antidumping and Countervailing Duty Proceedings; Final Rule, 88 FR 67069 (September 29, 2023).

Any party submitting factual information in an AD or CVD proceeding must certify to the accuracy and completeness of that information using the formats provided at the end of the Final Rule.⁹ Commerce intends to reject factual submissions in any proceeding segments if the submitting party does not comply with applicable certification requirements.

⁹ See section 782(b) of the Act; see also Final Rule; and the frequently asked questions regarding the Final Rule, available at https://enforcement.trade.gov/tlei/notices/factual_info_final_rule_FAQ_07172013.pdf.

Extension of Time Limits Regulation

Parties may request an extension of time limits before a time limit established under Part 351 expires, or as otherwise specified by Commerce.¹⁰ In general, an extension request will be considered untimely if it is filed after the time limit established under Part 351 expires. For submissions which are due from multiple parties simultaneously, an extension request will be considered untimely if it is filed after 10:00 a.m. on the due date. Examples include, but are not limited to: (1) case and rebuttal briefs, filed pursuant to 19 CFR 351.309; (2) factual information to value factors under 19 CFR 351.408(c), or to measure the adequacy of remuneration under 19 CFR 351.511(a)(2), filed pursuant to 19 CFR 351.301(c)(3) and rebuttal, clarification and correction filed pursuant to 19 CFR 351.301(c)(3)(iv); (3) comments concerning the selection of a surrogate country and surrogate values and rebuttal; (4) comments concerning CBP data; and (5) Q&V questionnaires. Under certain circumstances, Commerce may elect to specify a different time limit by which extension requests will be considered untimely for submissions which are due from multiple parties simultaneously. In such a case, Commerce will inform parties in the letter or memorandum setting forth the deadline (including a specified time) by which extension requests must be filed to be considered timely. This policy also requires that an extension request must be made in a separate, standalone submission, and clarifies the circumstances under which Commerce will grant untimely-filed requests for the extension of time limits. Please review the Final Rule, available at https://www.gpo.gov/fdsys/pkg/FR-2013-09-20/html/2013-22853.htm, prior to submitting factual information in these segments.

¹⁰ See 19 CFR 351.302.

Notification to Interested Parties

These initiations and this notice are in accordance with section 751(a) of the Act (19 U.S.C. 1675(a)) and 19 CFR 351.221(c)(1)(i).

Dated: August 19, 2025.
Scot Fullerton,
Acting Deputy Assistant Secretary for Antidumping and Countervailing Duty Operations.

[FR Doc. 2025-16131 Filed 8-21-25; 8:45 am]

BILLING CODE 3510-DS-P